SOCIAL SECURITY ADMINISTRATION

[Docket No SSA-2014-0077]

Agency Information Collection Activities: Comment Request

The Social Security Administration (SSA) publishes a list of information collection packages requiring clearance by the Office of Management and Budget (OMB) in compliance with Public Law 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov, or you may submit your comments online through www.regulations.gov, referencing Docket ID Number [SSA-2014-0077].

SSA submitted the information collections below to OMB for clearance. Your comments regarding the information collections would be most useful if OMB and SSA receive them 30 days from the date of this publication. To be sure we consider your comments, we must receive them no later than January 14, 2015. Individuals can obtain copies of the OMB clearance package by writing to OR.Reports.Clearance@ssa.gov.

1. Supplemental Security Income (SSI) Claim Information Notice—20 CFR 416.210-0960-0324. Section 1611(e)(2) of the Social Security Act requires individuals to file for and obtain all payments (annuities, pensions, disability benefits, veteran's compensation, etc.) for which they are eligible before qualifying for SSI payments. Individuals do not qualify for SSI if they do not first apply for all other benefits. SSA uses the information on Form SSA-L8050-U3 to verify and establish a claimant or recipient's eligibility under the SSI program. Respondents are SSI applicants or recipients who may be eligible for other payments from public or private programs.

Note: This is a correction notice. SSA published this information collection as a revision on September 25, 2014, at 79 FR 57650. Since we are no longer revising this information collection, it is now an extension of an OMB-approved information collection.

Type of Request: Extension of an OMB-approved information collection.

Modality of completion | Number of respondents | Frequency of response | Average burden per response (minutes) | Estimated total annual burden (hours)
SSA-L8050-U3 | 17,044 | 1 | 10 | 2,841

2. You Can Make Your Payment by Credit Card—0960-0462. Using information from Form SSA-4588 and its electronic application, Form SSA-4589, SSA updates individuals' Social Security records to reflect payments made on their overpayments. In addition, SSA uses this information to process payments through the appropriate credit card company. SSA provides the SSA-4588 when we inform an individual that we detected an overpayment. Individuals may choose to make a one-time payment or recurring monthly payments by completing and submitting the SSA-4588. SSA uses the SSA-4589 electronic intranet application only when individuals choose to telephone the Program Service Centers to make a one-time payment in lieu of completing Form SSA-4588. An SSA debtor contact representative completes the SSA-4589 electronic intranet application. Respondents are OASDI beneficiaries and SSI recipients who have outstanding overpayments.

Type of Request: Revision of an OMB-approved information collection.

Modality of completion | Number of respondents | Frequency of response | Average burden per response (minutes) | Estimated total annual burden (hours)
SSA-4588 Paper Form | 13,200 | 1 | 10 | 2,200
SSA-4589 Electronic Intranet Application | 221,3196 | 1 | 5 | 18,443
Totals | 234,516 |  |  | 20,643

3. Application for Extra Help with Medicare Prescription Drug Plan Costs—20 CFR 418.3101-0960-0696. The Medicare Modernization Act of 2003 mandated the creation of the Medicare Part D prescription drug coverage program and the provision of subsidies for eligible Medicare beneficiaries. SSA uses Form SSA-1020 or the Internet i1020, the Application for Extra Help with Medicare Prescription Drug Plan Costs, to obtain income and resource information from Medicare beneficiaries and to make a subsidy decision. The respondents are Medicare beneficiaries applying for the Part D low-income subsidy.

Type of Request: Revision of an OMB-approved information collection.

Modality of completion | Number of respondents | Frequency of response | Average burden per response (minutes) | Estimated total annual burden (hours)
SSA-1020 (Paper Application Form | 617,070 | 1 | 30 | 308,535
i1020 Online Application | 282,228 | 1 | 25 | 117,595
Field Office Interview | 155,687 | 1 | 30 | 77,844
Totals | 1,054,985 |  |  | 503,974

Dated: December 10, 2014.
Faye Lipsky,
Reports Clearance Director, Social Security Administration.

[FR Doc. 2014-29246 Filed 12-12-14; 8:45 am]

BILLING CODE 4191-02-P